DEPARTMENT OF COMMERCE

Census Bureau

Agency Information Collection Activities; Submission to the Office of Management and Budget (OMB) for Review and Approval; Comment Request American Community Survey and Puerto Rico Community Survey

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the American Community Survey and Puerto Rico Community Survey, prior to the submission of the information collection request (ICR) to OMB for approval.

DATES: To ensure consideration, comments regarding this proposed information collection must be received on or before December 19, 2023.

ADDRESSES: Interested persons are invited to submit written comments by email to acso.pra@census.gov. Please reference the American Community Survey and the Puerto Rico Community Survey in the subject line of your comments. You may also submit comments, identified by Docket Number USBC-2023-0009, to the Federal e-Rulemaking Portal: https://www.regulations.gov. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Dameka Reese, U.S. Census Bureau, American Community Survey Office, 301-763-3804, dameka.m.reese@census.gov.

SUPPLEMENTARY INFORMATION:

I. Abstract

Since its founding, the U.S. Census Bureau has balanced the demands of a growing country requiring information about its people and economy with concerns for respondents' confidentiality and the time and effort it takes respondents to answer questions. Beginning with the 1810 Census, Congress updated the set of questions asked in the 1790 and 1800 Censuses by adding questions to support a range of public concerns and uses. Over the course of a century, Federal agencies requested to add questions about agriculture, industry, and commerce, as well as individuals' occupation, ancestry, marital status, disabilities, place of birth, and other topics. In 1940, the Census Bureau introduced the long-form census questionnaire in order to ask more detailed questions to a sample of the public.

In the early 1990s, the demand for current, nationally consistent data from a wide variety of users led Federal Government policymakers to consider the feasibility of collecting social, economic, and housing data continuously throughout the decade. The benefits of providing current data, along with the anticipated decennial census benefits in cost savings, planning, improved census coverage, and more efficient operations, led the Census Bureau to plan the implementation of the Continuous Measurement Survey, later called the American Community Survey (ACS). After years of testing, the ACS was implemented in 2005 replacing the need for long-form data collection in future decennial censuses. The ACS is conducted throughout the United States and in Puerto Rico, where it is called the Puerto Rico Community Survey (PRCS). The ACS samples approximately 3.5 million housing unit addresses in the United States and about 36,000 housing unit addresses in Puerto Rico each year. A housing unit is a house, an apartment, a mobile home, a group of rooms, or a single room occupied or intended for occupancy as separate living quarters. The ACS also collects detailed socioeconomic data from a sample of about 170,000 residents living in group quarters facilities in the United States and about 900 in Puerto Rico. Group quarters are places where people live or stay, in a group living arrangement that is owned or managed by an entity or organization providing housing and/or services for the residents. People living in group quarters usually are not related to each other. Group quarters include such places as college/university student housing, residential treatment centers, skilled nursing facilities, group homes, military barracks, correctional facilities, workers' group living quarters and Job Corps centers, and emergency and transitional shelters.

The proposed content for the 2025 ACS and PRCS reflects changes to content and instructions that were recommended as a result of the 2022 Content Test. The Census Bureau periodically conducts tests of new and revised survey content to ensure the ACS and the PRCS are meeting the data needs of its stakeholders. The primary objective of content tests is to determine whether changes to question wording, instructions, response categories, and underlying constructs improve the quality of the data collected. The 2025 survey changes cover several topics: household roster, educational attainment, health insurance coverage, disability, and labor force questions. Additionally, three new questions are proposed to be added to the ACS and the PRCS on solar panels, electric vehicles, and sewage disposal. A summary of changes for each topic are as follows:

Household Roster—The roster instructions have not changed since the 1990s while household living arrangements have increased in complexity. The revisions to the instructions help improve within household coverage, especially among young children and tenuously attached residents.

Educational Attainment—A relatively high percentage of adults are selecting the response category, “No schooling completed.” Ongoing research suggests that this includes adults who have completed some level of schooling. The revision reduces erroneous reports in this category through formatting and wording changes to clarify the response options.

Health Insurance Coverage—Since implementation in 2008, research has found that Medicaid and other means-tested programs are underreported in the ACS and the PRCS and that direct-purchase coverage is overreported, in part due to misreporting of non-comprehensive health plans and reporting multiple coverage types for the same plan (Mach & O'Hara, 2011; Lynch et al., 2011; Boudreaux et al., 2014; O'Hara, 2010; Boudreaux et al., 2011; Boudreaux et al., 2013). Moreover, revisions to the health insurance coverage question would help capture changes to the health insurance landscape that occurred with and since the passage of the Patient Protection and Affordable Care Act. Changes to the health insurance coverage question include a change in formatting of the question that adds an explicit response category for those who are uninsured, reordering some response options and rewording response options for direct purchase, Medicaid, employer, and veteran's health care.

Disability—The series of six disability questions are being revised to capture information on functioning in a manner that reflects advances in the measurement of disability and is conceptually consistent with the World Health Organization's International Classification of Functioning, Disability, and Health (ICF) disability framework (World Health Organization, 2001). Changes include using graded response categories to reflect the continuum of functional abilities (the current questions use a dichotomous yes or no response), reordering the questions, and modifying question text. Additionally, a new question will ask about difficulties related to psychosocial and cognitive disability in addition to problems with speech.

Labor Force—Labor force questions related to when the person last worked, the number of weeks, and the number of hours worked are being updated to clarify instructions to only include work for pay, to include all jobs a person may hold, and to ensure that military service is included.

Electric Vehicles—This new question asks if there are plug-in electric vehicles kept at the housing unit. By adding this question, we will be able to provide data to stakeholders to project future energy sources, infrastructure, and consumer needs for the growing popularity of electric vehicles. The ACS and the PRCS would be the only data source at the housing unit level to adequately inform these projections.

Solar Panels—This new question asks if the housing unit uses solar panels that generate electricity. By adding this question, we will be able to obtain data for operational solar panels on a housing unit level across the country. This information will help the Energy Information Administration (EIA) match energy consumption to energy production across the United States.

Sewage Disposal—This new question asks if the housing unit is connected to a public sewer, septic tank, or other type of sewage system. By adding this question, we will be able to obtain consistent data on the decentralized wastewater infrastructure status in rural and other communities. These data are needed to protect public health, water quality, and to understand and meet the country's growing infrastructure needs. The ACS and the PRCS are the only available surveys that can provide these levels of data in a timely, consistent, and standardized manner.

II. Method of Collection

To encourage self-response in the ACS, the Census Bureau sends up to five mailings to housing unit addresses selected to be in the sample. The first mailing, sent to all mailable addresses in the sample, includes an invitation to participate in the ACS online and states that a paper questionnaire will be sent in a few weeks to those unable to respond online. The second mailing is a letter that reminds respondents to complete the survey online, thanks them if they have already done so, and informs them that a paper questionnaire will be sent at a later date if we do not receive their response. In a third mailing, the paper questionnaire is sent only to those sample addresses that have not completed the online questionnaire within two weeks of receipt of the first mailing. The fourth mailing is a postcard that reminds respondents to respond and informs them that an interviewer may contact them if they do not complete the survey. A fifth mailing is sent to respondents who have not completed the survey within five weeks. This letter provides a due date and reminds the respondents to return their questionnaires to be removed from future contact. If a respondent starts to answer the survey online and provides an email address but does not complete the survey, an email will be sent to the respondent to remind them to return to the survey to complete their online questionnaire. If the Census Bureau does not receive a response or if the household refuses to participate, the address may be selected for an interview in-person or by telephone by a Census Bureau field representative, which we call the nonresponse follow-up data collection operation. Respondents also have the option to call the Telephone Questionnaire Assistance line and complete the survey over the telephone. A small sample of respondents from the nonresponse follow-up data collection operation are recontacted for quality assurance purposes.

A sixth mailing, sent to all mailable addresses selected for an interview in-person, includes an invitation to participate in the ACS online and reminds the respondents to complete the survey online to avoid an in-person interview. Some addresses are deemed unmailable because the address is incomplete or directs mail only to a post office box. The Census Bureau currently collects data for these housing units using both online and computer-assisted personal interviewing by a Census Bureau field representative. During the person-level phase, a field representative uses a computer-assisted personal interview automated instrument to collect detailed information for each sampled resident. A small sample of respondents from the nonresponse follow-up data collection operation are recontacted for quality assurance purposes.

For sample housing units in the PRCS, a different mail strategy is employed. The Census Bureau continues to use the previously used mail strategy with no references to an internet response option. The Census Bureau sends up to five mailings to a Puerto Rico address selected to be in the sample. The first mailing includes a prenotice letter. The second and fourth mailings include the paper survey. The third and fifth mailings are postcards that serve as a reminder to respond to the survey. If the Puerto Rico address is deemed unmailable because the address is incomplete or directs mail only to a post office box, the address may be selected for an interview in-person or by telephone. A small sample of respondents from the nonresponse follow-up data collection operation are recontacted for quality assurance purposes.

The Census Bureau employs a separate strategy to collect data from group quarters. The Census Bureau collects data for sampled people in group quarters through personal interview and telephone interview. The Census Bureau will obtain the facility information by conducting a telephone or personal visit interview with a group quarter contact. During this interview, the Census Bureau obtains a roster of residents and randomly selects them for person-level interviews. The facility also has the option of uploading their facility roster to the Census Bureau online listing application. During the person-level phase, a field representative uses a computer-assisted personal interview automated instrument to collect detailed information for each sampled resident. The field representative also has the option to distribute a bilingual (English/Spanish) questionnaire to residents for self-response if they are unable to complete a computer-assisted personal interview. Beginning in 2024, respondents in some group quarters will have the option to self-respond to the survey online. A small sample of facilities are recontacted for quality assurance purposes.

In 2018, the OMB in conjunction with the Census Bureau, solicited proposals for question changes or additions from over twenty federal agencies participating in the OMB Interagency Committee for the ACS (including the PRCS). The proposals contained a justification for each change and described any previous testing of question wording, the expected impact of the proposed revisions to the estimates, and the estimated respondent burden. For proposed new questions, the justification also described the need for the new data, whether federal law or regulations supported the collection of the data for small areas or small populations, if other data sources were available to provide the information, how policy needs or emerging data needs would be addressed through the new question, an explanation of why the data were needed with the geographic precision and frequency provided by the ACS and the PRCS, and described any previous testing of the questions.

Proposals were reviewed by OMB, the Census Bureau, as well as the Interagency Council on Statistical Policy (ICSP) Subcommittee on the ACS. The ICSP Subcommittee on the ACS advises the Chief Statistician of the United States at OMB and the Director of the Census Bureau on how the ACS can best fulfill its role in the portfolio of federal household surveys and provide the most useful information with the least amount of burden.

After the proposals were reviewed and approved, topical subcommittees were formed from stakeholder federal agencies to develop question wording and provide input on testing and evaluation methodology. Cognitive testing was conducted for all questions. The Census Bureau contracted with Research Triangle Institute (RTI) International, who conducted three rounds of cognitive testing. The results of cognitive testing from the first two rounds informed the decisions on specific wording to proceed with testing. These rounds of testing included both English and Spanish and testing for different modes of administration. An additional third round of cognitive testing was conducted in Spanish in Puerto Rico and in English for residents of group quarters (facilities where groups of unrelated people live such as nursing homes, college dorms, and military barracks). With approval from OMB, questions were tested in the 2022 Content Test, which was a split-sample field test. Data from the test were used to evaluate the proposed question changes using a variety of metrics, including item missing data rates, response distributions, comparisons to benchmarks, response reliability, and other topic-specific metrics.

The topic subcommittees reviewed the results of the field test and made recommendations to either implement the tested change or to keep the question as is. Changes were recommended for the following topics: household roster, educational attainment, health insurance coverage, disability, and labor force questions. The topic subcommittees also supported adding three new questions on solar panels, electric vehicles, and sewage disposal. Changes to three tested topics—Income, Labor Force, and the Supplemental Nutrition Assistance Program (SNAP)—were not recommended. These topics tested changes to the reference period from the “last 12 months” to the last calendar year, in preparation for eventually using administrative data to replace or supplement income data on the ACS. Before implementing a change to the reference period, further evaluation with administrative records data needs to be completed once administrative data are available. Therefore, a decision on implementation of changing the reference period will be delayed until that analysis can be completed. The ACS will move forward with recommending changes to the instructions for the labor force questions.

The ICSP Subcommittee on the ACS reviewed the proposed content changes and recommended their approval to the OMB and the Census Bureau. The proposed content changes would apply to the ACS and PRCS paper questionnaire and automated data collection instruments for both Housing Unit and Group Quarters operations.

III. Data

OMB Control Number: 0607-0810.

Form Number(s): ACS-1, ACS-1(SP), ACS-1(PR), ACS-1(PR)SP, ACS-1(GQ), ACS-1(PR)(GQ), GQFQ, ACS CAPI (HU), ACS RI (HU), ACSGQFQ, ACS GQQI, and ACS GQRI.

Type of Review: Regular submission, Request for a Revision of a Currently Approved Collection.

Affected Public: Individuals or Households.

Estimated Number of Respondents: 3,576,000 for household respondents; 20,100 for contacts in GQ; 170,900 people in GQ; 22,875 households for reinterview; and 1,422 GQ contacts for reinterview. The total estimated number of respondents is 3,791,297.

Estimated Time per Response: 40 minutes for the average household questionnaire; 15 minutes for a GQ facility questionnaire; 25 minutes for a GQ person questionnaire; 10 minutes for a household reinterview; 10 minutes for a GQ-level reinterview.

Estimated Total Annual Burden Hours: 2,384,000 for household respondents; 5,025 for contacts in GQ; 71,208 for GQ residents 3,813 households for reinterview; and 237 GQ contacts for reinterview. The estimate is an annual average of 2,464,283 burden hours.

Table 1—Annual ACS and PRCS Respondent and Burden Hour Estimates
Data collection operation | Forms or instrument used in data collection | Annual estimated number of respondents | Estimated minutes per respondent by data collection activity | Annual estimated burden hours
I. ACS Household Questionnaire, Online Survey, Telephone, and Personal Visit | ACS-1, ACS 1(SP), ACS-1PR, ACS-1PR(SP), Online Survey, Telephone, CAPI | 3,576,000 | 40 | 2,384,000
II. ACS GQ Facility Questionnaire CAPI—Telephone and Personal Visit | CAPI GQFQ | 20,100 | 15 | 5,025
III. ACS GQ CAPI Personal Interview or Telephone, and Paper Self-response | CAPI, ACS-1(GQ), ACS-1(GQ)(PR) | 170,900 | 25 | 71,208
IV. ACS Household Reinterview—CATI/CAPI | ACS HU-RI | 22,875 | 10 | 3,813
V. ACS GQ-level Reinterview—CATI/CAPI | ACS GQ-RI | 1,422 | 10 | 237
Totals |  | 3,791,297 | N/A | 2,464,283

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C. 141 and 193.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-23249 Filed 10-19-23; 8:45 am]

BILLING CODE 3510-07-P